DEPARTMENT OF HOMELAND SECURITY

Transportation Security Administration

Intent To Request Revision From OMB of One Current Public Collection of Information: TSA Customer Comment Card

AGENCY: Transportation Security Administration, DHS.

ACTION: 60-Day notice.

SUMMARY: The Transportation Security Administration (TSA) invites public comment on one currently approved Information Collection Request (ICR), Office of Management and Budget (OMB) control number 1652-0030 abstracted below that we will submit to OMB for a revision in compliance with the Paperwork Reduction Act (PRA). The ICR describes the nature of the information collection and its expected burden. This collection allows customers to provide feedback to TSA about their experiences with TSA's processes and procedures, to request information or request assistance at the TSA checkpoint, and to report security threats and vulnerabilities.

DATES: Send your comments by November 27, 2017.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Christina A. Walsh the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

OMB Control Number 1652-0030; TSA Customer Comment Card. The ICR is a voluntary program for airport passengers to provide feedback to TSA regarding their experiences with TSA security procedures. The collection of information allows TSA to evaluate and address customer concerns about security procedures and policies.

TSA Customer Comment Cards collect feedback, complaints, or compliments and the passenger may voluntarily provide contact information. TSA uses the contact information to respond to the passenger's comments. For passengers who deposit their cards in the designated drop-boxes, TSA staff at airport collect the cards, categorize comments, enter the results into an online system for reporting, and respond to passengers as appropriate.

In addition, the TSA Contact Center (TCC) continues to be available for passengers to make comments independently of airport involvement via online submission forms, available at www.tsa.gov/contact/contact-forms. These electronic forms of the comment card are intended for the same purpose, to allow passengers to provide feedback to TSA regarding their experiences with TSA security procedures. Passengers may also use the electronic forms to file Disability or Civil Rights and Liberties complaints. TCC provides a receipt to any person who submits an electronic form. The information obtained from the electronic forms allows TSA to evaluate and address customer concerns about security procedures and policies with an electronic interface.

TSA is revising the collection to add three new electronic forms: Request for Assistance, Request for Information, and Security Issue. The Request for Assistance electronic form allows passengers to request assistance at the TSA checkpoint as part of the TSA Cares Program. This program was developed for passengers with disabilities, medical conditions, and other special circumstances who may need additional assistance during the security screening process. The program is available to all members of the public and is separate from the Military Severely Injured Joint Support Operations Center (MSIJSOC) and the Travel Protocol Office (TPO) programs which support and facilitate the movement of wounded warriors, severely injured military personnel, veterans, and other travelers requiring an escort through the airport security screening process. The Request for Information electronic form allows passengers to submit an inquiry about TSA policies and procedures, such as traveling with medical conditions, prohibited and permitted items, or security screening. The Security Issue electronic form allows passengers to play a critical role in identifying and reporting suspicious activities and threats. TCC will also provide receipts to any person who uses the three new electronic forms. TSA is required to provide a receipt to any person who reports a security problem, deficiency, or vulnerability. See 49 CFR 1503.3(a).

TSA estimates the number of respondents to be 203,659, with an estimated number of 18,431 average annual burden hours. The annual respondents and burden hours have decreased from the prior ICR submission estimate due to new estimates derived from actual data obtained over the past few years. The number of paper customer comment card submissions decreased from 150,000 to 50,000 and the number of electronic comment submissions (previously called Talk to TSA) decreased from 170,000 to 136,140. As a result, the annual burden hour has decreased accordingly. In addition, TSA reduced its hour burden estimates for the Disability and Civil Right complaints from 30 minutes to 10 minutes based on actual usage data.

Dated: September 20, 2017.
Christina A. Walsh,
TSA Paperwork Reduction Act Officer, Office of Information Technology.

[FR Doc. 2017-20496 Filed 9-25-17; 8:45 am]

BILLING CODE 9110-05-P